DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before April 1, 2016.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(b)).

Issued in Washington, DC, January 28, 2016.
Don Burger,
Chief, General Approvals and Permits.

Application No. | Docket No. | Applicant | Regulation(s) affected | Nature of special permit thereof
MODIFICATION SPECIAL PERMITS
7573-M |  | U.S. Department of Defense, Scott AFB, IL | 49 CFR Part 107, Subpart B; Part 172; Part 175 | To modify the special permit to identify the DOD as an offeror of hazardous materials and to clarify the authorized airports and update the loading and stowage requirements.
9232-M |  | U.S. Department of Defense, Scott AFB, IL | 49 CFR Part 107, Subpart B; Part 172; Subparts C, D except 172.312 | To modify the special permit to identify the DOD as an offeror of hazardous materials and to clarify certain operational requirements by replacing AFR 71-4 with AFMAN 24-204 PREPARING HAZARDOUS MATERIALS FOR MILITARY AIR SHIPMENTS.
13173-M |  | Luxfer Canada Limited, Calgary, AB | 49 CFR 173.302a | To modify the special permit to authorize additional Division 2.1, 2.2, and 2.3 materials, to clarify the requirements for tensile stress at burst, to authorize hydraulic proof pressure testing and to modify the design requirements for the cylinder mounting frames.
14429-M |  | Bayer Healthcare, LLC, Cleveland, TN | 40 CFR 173.306(a)(3)(v) | To modify the special permit to authorize an additional DOT specification 2P aluminum non-refillable inside container, add an additional Division 2.2 material, update “Consumer Commodity” to “Limited Quantity”, change the capacity from volumetric “ounces” to “Net Weight Ounces” and update the drawing numbers of the inside containers.
14453-M |  | FIBA Technologies, Inc., Milbury, MA | 49 CFR 180.209 | To modify the special permit to authorize an additional Division 2.2 material.
16146-M |  | U.S. Department of Defense, Scott AFB, IL | 49 CFR 171.22(e), 172.101 Hazardous Materials Table, Column (9B), International Civil Aviation Organization's Technical Instructions Part 3, Chapter 2, Table 3-1, Columns 12 and 13 | To modify the special permit to authorize Division 1.4 explosives and add optional packaging requirements AFMAN 24-204 PREPARING HAZARDOUS MATERIALS FOR MILITARY SHIPMENTS.
16510-M |  | Apple, Inc., Cupertino, CA | 49 CFR Subparts C through H of Part 172, 173.185(f) | To modify the special permit originally issued on an emergency basis to authorize an additional two years.
16531-M |  | NVIDIA Corporation, Santa Clara, CA | 49 CFR 173.185(c)(3); 173.185(f) | To modify the special permit originally issued on an emergency basis to authorize an additional two years.
16572-M |  | Samsung Austin Semiconductor, LLC, Austin, TX | 49 CFR 173.158(b), 173.158(e), 173.158 (f) | To modify the special permit originally issued on an emergency basis to authorize an additional two years and to authorize drums to be emptied no more than 26 weeks after the initial date of filling instead of the current 6 months.

[FR Doc. 2016-05696 Filed 3-16-16; 8:45 am]

BILLING CODE 4909-60-M